DEPARTMENT OF ENERGY

Federal Energy Regulatory Commission

Notice of Application for Amendment of License and Soliciting Comments, Motions To Intervene, and Protests

May 5, 2000.

Take notice that the following hydroelectric application has been filed with the Commission and is available for public inspection:

a. Type of Appplication: Application to Convey 7.43 Acres of Project Land for Housing Development.

b. Project No.: 516-321.

c. Date Filed: March 20, 2000.

d. Applicant: South Carolina Electric & Gas Company.

e. Name of Project: Saluda.

f. Location: The project is located in Saluda, Lexington, Newberry and Richland Counties, SC.

g. Filed Pursuant to: Federal Power Act, 16 U.S.C. 791(a)-825(r).

h. Applicant contact: Thomas G. Eppink, Esquire, Senior Attorney, South Carolina Electric & Gas Company, Legal Department—130, Columbia, SC 29218, (803) 217-9448, or, Beth Trump, Real Estate Coordinator, (803) 217-7912.

i. FERC contact: John K. Hannula, (202) 219-0116.

j. Deadline for filing comments, motions to intervene and protest: 30 days from the issuance date of this notice.

Please include the project number (516-321) on any comments or motions filed. All documents (original and eight copies) should be filed with: David P. Boergers, Secretary, Federal Energy Regulatory Commission, 888 First Street, NE, Washington, DC 20426.

k. Description of the Application: South Carolina Electric & Gas Company requests Commission approval to sell three adjacent parcels of project fringeland totaling 7.43 acres to Mr. Jim Byrum for residential development. The parcels are located on the Hawley Creek area off Route 358 just north of Newberry Shores, approximately 7 miles south of the Town of Prosperity, Newberry County, South Carolina.

l. Locations of the application: A copy of the application is available for inspection and reproduction at the Commission's Public Reference Room, located at 888 First Street, NE, Room 2A, Washington, DC 20426, or by calling (202) 208-1317. The application may be viewed on the web at www.ferc.fed.us/online/rims.htm (Call (202) 208-2222 for assistance). A copy is also available for inspection and reproduction at the addresses in item h above.

Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters the title “COMMENTS”, “RECOMMENDATIONS FOR TERMS AND CONDITIONS”, “PROTEST”, OR “MOTION TO INTERVENE”, as applicable, and the Project Number of the particular application to which the filing refers. Any of the above-named documents must be filed by providing the original and the number of copies provided by the Commission's regulations to: The Secretary, Federal Energy Regulatory Commission, 888 First Street, NE, Washington, DC 20426. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of any agency's comments must also be sent to the Applicant's representatives.

David P. Boergers,
Secretary.

[FR Doc. 00-11775 Filed 5-10-00; 8:45 am]

BILLING CODE 6717-01-M